DEPARTMENT OF ENERGY

Federal Energy Regulatory Commission

Combined Notice of Filings #1

Take notice that the Commission received the following electric rate filings:

Docket Numbers: ER19-1637-001.

Applicants: Southwest Power Pool, Inc.

Description: Compliance filing: Notice of Effective Date—Revisions to Allow DVERs to Utilize Control Status 3 to be effective N/A.

Filed Date: 1/28/22.

Accession Number: 20220128-5232.

Comment Date: 5 p.m. ET 2/18/22.

Docket Numbers: ER22-740-000.

Applicants: GridLiance West LLC.

Description: Annual Informational Filing of 2022 Projected Net Revenue Requirement and 2020 True-Up Adjustment of GridLiance West LLC.

Filed Date: 12/28/21.

Accession Number: 20211228-5243.

Comment Date: 5 p.m. ET 2/7/22.

Docket Numbers: ER22-784-001.

Applicants: CPV Maple Hill Solar, LLC.

Description: Tariff Amendment: Amendment to Market-Based Rate Application to be effective 3/9/2022.

Filed Date: 1/28/22.

Accession Number: 20220128-5146.

Comment Date: 5 p.m. ET 2/18/22.

Docket Numbers: ER22-910-000.

Applicants: Rockland Electric Company, PJM Interconnection, L.L.C.

Description: § 205(d) Rate Filing: Rockland Electric Company submits tariff filing per 35.13(a)(1): RECO revisions to Schedules 1A, 7, 8 & Att. H-12 to update ATRR & rates to be effective 3/30/2022.

Filed Date: 1/28/22.

Accession Number: 20220128-5109.

Comment Date: 5 p.m. ET 2/18/22.

Docket Numbers: ER22-911-000.

Applicants: NSTAR Electric Company.

Description: Tariff Amendment: Cancellation—Preliminary Engineering and Design Agreement with Ocean State Power to be effective 1/28/2021.

Filed Date: 1/28/22.

Accession Number: 20220128-5141.

Comment Date: 5 p.m. ET 2/18/22.

Docket Numbers: ER22-911-001.

Applicants: NSTAR Electric Company.

Description: Tariff Amendment: Amended Cancellation—Preliminary Engineering Design Agreement Ocean State Power to be effective 1/28/2022.

Filed Date: 1/28/22.

Accession Number: 20220128-5274.

Comment Date: 5 p.m. ET 2/18/22.

Docket Numbers: ER22-912-000.

Applicants: The Connecticut Light and Power Company.

Description: Tariff Amendment: Cancellation—Preliminary Engineering Design Agreement—University of Connecticut to be effective 1/28/2022.

Filed Date: 1/28/22.

Accession Number: 20220128-5164.

Comment Date: 5 p.m. ET 2/18/22.

Docket Numbers: ER22-913-000.

Applicants: Mid-Atlantic Interstate Transmission, LLC, PJM Interconnection, L.L.C.

Description: § 205(d) Rate Filing: Mid-Atlantic Interstate Transmission, LLC submits tariff filing per 35.13(a)(2)(iii): MAIT submits five ECSAs, SA Nos. 6285-6289 to be effective 3/30/2022.

Filed Date: 1/28/22.

Accession Number: 20220128-5168.

Comment Date: 5 p.m. ET 2/18/22.

Docket Numbers: ER22-914-000.

Applicants: Southwest Power Pool, Inc.

Description: § 205(d) Rate Filing: Revisions to Attachment AE to Add Uncertainty Reserve to be effective 12/31/9998.

Filed Date: 1/28/22.

Accession Number: 20220128-5183

Comment Date: 5 p.m. ET 2/18/22.

Docket Numbers: ER22-915-000.

Applicants: Energia Sierra Juarez 2 U.S., LLC.

Description: Tariff Amendment: Energia Sierra Juarez 2 U.S.—Notice of Cancellation of Market Based Rate Tariff to be effective 1/29/2022.

Filed Date: 1/28/22.

Accession Number: 20220128-5245.

Comment Date: 5 p.m. ET 2/18/22.

Docket Numbers: ER22-916-000.

Applicants: Midcontinent Independent System Operator, Inc.

Description: § 205(d) Rate Filing: 2022-01-28_SA 3770 NIPSCO-Indiana Crossroads Wind Farm GIA (J1069) to be effective 3/30/2022.

Filed Date: 1/28/22.

Accession Number: 20220128-5256.

Comment Date: 5 p.m. ET 2/18/22.

Docket Numbers: ER22-917-000.

Applicants: Tri-State Generation and Transmission Association, Inc.

Description: Tariff Amendment: Notice of Cancellation of Rate Schedule FERC No. 180 to be effective 3/20/2022.

Filed Date: 1/28/22.

Accession Number: 20220128-5271.

Comment Date: 5 p.m. ET 2/18/22.

Docket Numbers: ER22-918-000.

Applicants: New York State Electric & Gas Corporation, New York Independent System Operator, Inc.

Description: § 205(d) Rate Filing: New York State Electric & Gas Corporation submits tariff filing per 35.13(a)(2)(iii): 205: E&P Agreement between NYSEG and Trelina Solar Energy Center (SA 2684) to be effective 10/8/2021.

Filed Date: 1/28/22.

Accession Number: 20220128-5280.

Comment Date: 5 p.m. ET 2/18/22.

Docket Numbers: ER22-919-000.

Applicants: PJM Interconnection, L.L.C.

Description: § 205(d) Rate Filing: Original WMPA, Service Agreement No. 6328; Queue No. AG2-399 to be effective 1/19/2022.

Filed Date: 1/28/22.

Accession Number: 20220128-5309.

Comment Date: 5 p.m. ET 2/18/22.

Docket Numbers: ER22-920-000.

Applicants: Tri-State Generation and Transmission Association, Inc.

Description: § 205(d) Rate Filing: Service Agreement No. 903 to be effective 2/25/2020.

Filed Date: 1/28/22.

Accession Number: 20220128-5340.

Comment Date: 5 p.m. ET 2/18/22.

Docket Numbers: ER22-921-000.

Applicants: Public Service Company of Colorado.

Description: § 205(d) Rate Filing: 2022-01-28 PSC-CORE-SISA-670-0.0.0 to be effective 1/29/2022.

Filed Date: 1/28/22.

Accession Number: 20220128-5344.

Comment Date: 5 p.m. ET 2/18/22.

Docket Numbers: ER22-922-000.

Applicants: United Energy Partners, LLC.

Description: Baseline eTariff Filing: Market-Based Rate Tariff Application to be effective 1/29/2022.

Filed Date: 1/28/22.

Accession Number: 20220128-5355.

Comment Date: 5 p.m. ET 2/18/22.

Docket Numbers: ER22-923-000.

Applicants: Basin Electric Power Cooperative.

Description: Tariff Amendment: Basin Electric Notice of Cancellation of Service Agreements to be effective 3/30/2022.

Filed Date: 1/28/22.

Accession Number: 20220128-5362.

Comment Date: 5 p.m. ET 2/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2022.
Kimberly D. Bose,
Secretary.

[FR Doc. 2022-02220 Filed 2-2-22; 8:45 am]

BILLING CODE 6717-01-P